COMMITTEE FOR PURCHASE FROM PEOPLE WHO ARE BLIND OR SEVERELY DISABLED

Procurement List; Proposed Additions and Deletion

AGENCY: Committee for Purchase from People Who are Blind or Severely Disabled.

ACTION: Proposed additions to and deletion from the Procurement List.

SUMMARY: The Committee is proposing to add services to the Procurement List that will be provided by nonprofit agencies employing persons who are blind or have other severe disabilities, and deletes a service previously provided by such agency.

DATES: Comments must be received on or before: 8/10/2015.

ADDRESSES: Committee for Purchase From People Who Are Blind or Severely Disabled, 1401 S. Clark Street, Suite 715, Arlington, Virginia 22202-4149.

FOR FURTHER INFORMATION CONTACT: For further information or to submit comments contact Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type: Equipment and Facility Support Service

Service Mandatory For: U.S. Air Force, Ogden Air Logistics Complex, Hill Air Force Base, UT

Mandatory Source of Supply: Beacon Group SW., Inc., Tucson, AZ

Contracting Activity: FA8224 OL H PZI PZIM, Hill Air Force Base, UT

Service Type: Document Destruction Service

Service Mandatory For: Department of Veterans Affairs, Veterans Integrated, Service Network (VISN) 10, 3140 Governor's Place Blvd., Suite 210, Kettering, OH

Mandatory Source of Supply: Greene, Inc., Xenia, OH

Contracting Activity: Department of Veterans Affairs, 552-Dayton, Dayton OH

Service Type: Janitorial Service

Service Mandatory For: U.S. Coast Guard, Transformation Warehouse, 1873 Eringhaus Street, Elizabeth City, NC

Mandatory Source of Supply: Skills, Inc., Elizabeth City, NC

Contracting Activity: Department of Homeland Security, U.S. Coast Guard, Aviation Logistics Center (ALC), Elizabeth City, NC

Deletions

The following service is proposed for deletion from the Procurement List:

Services

Service Type: Food Service Attendant Service

Service Mandatory For: United States Military Academy: Enlisted Dining Facility, and Summer Camp, Enlisted Dining Facility—Bldg 620, Knox Road, West Point, NY

Mandatory Source of Supply: New Dynamics Corporation, Middletown, NY

Contracting Activity: Dept of the Army, W40M Northern Region Contract Office Fort Belvoir, VA

Barry S. Lineback,
Director, Business Operations.

[FR Doc. 2015-16933 Filed 7-9-15; 8:45 am]

BILLING CODE 6353-01-P